DEPARTMENT OF LABOR

Employment and Training Administration

[TA-W-41,434]

Notice of Termination of Investigation; Goodrich Corp., Spencer, WV

Pursuant to section 221 of the Trade Act of 1974, an investigation was initiated on April 29, 2002, in response to a petition filed by a company official on behalf of workers at Goodrich Corporation, Spencer, West Virginia.

The petitioner has requested that the petition be withdrawn. Consequently, further investigation in this case would serve no purpose, and the investigation has been terminated.

Signed in Washington, DC this 18th day of June, 2002.
Linda G. Poole,
Certifying Officer, Division of Trade Adjustment Assistance.

[FR Doc. 02-17148 Filed 7-8-02; 8:45 am]

BILLING CODE 4510-30-P